DEPARTMENT OF ENERGY

Federal Energy Regulatory Commission

Combined Notice of Filings

Take notice that the Commission has received the following Natural Gas Pipeline Rate and Refund Report filings:

Docket Number: PR20-55-003.

Applicants: The East Ohio Gas Company.

Description: Tariff filing per 284.123(b),(e)/: Amend Operating Statement of The East Ohio Gas Company 4-30-2020 to be effective 4/1/2020.

Filed Date: 8/13/2020.

Accession Number: 202008135024.

Comments/Protests Due: 5 p.m. ET 8/25/2020.

Docket Numbers: RP20-1093-000.

Applicants: Southern Natural Gas Company, L.L.C.

Description: § 4(d) Rate Filing: Spire Negotiated Rate to be effective 10/1/2020.

Filed Date: 8/13/20.

Accession Number: 20200813-5017.

Comments Due: 5 p.m. ET 8/25/20.

Docket Numbers: RP20-1094-000.

Applicants: Trunkline Gas Company, LLC.

Description: § 4(d) Rate Filing: Reservation Charge Crediting Clarification to be effective 9/13/2020.

Filed Date: 8/13/20.

Accession Number: 20200813-5031.

Comments Due: 5 p.m. ET 8/25/20.

Docket Numbers: RP20-1095-000.

Applicants: Northern Natural Gas Company.

Description: § 4(d) Rate Filing: 20200813 Carlton Flow Obligation to be effective 11/1/2020.

Filed Date: 8/13/20.

Accession Number: 20200813-5036.

Comments Due: 5 p.m. ET 8/25/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 13, 2020.
Nathaniel J. Davis, Sr.,
Deputy Secretary.

[FR Doc. 2020-18139 Filed 8-18-20; 8:45 am]

BILLING CODE 6717-01-P